DEPARTMENT OF HEALTH AND HUMAN SERVICES

Centers for Disease Control and Prevention

[Docket No. CDC-2013-0014]

Preventing Skin Cancer Through Reduction of UV Exposure

AGENCY: Centers for Disease Control and Prevention (CDC), Department of Health and Human Services (HHS).

ACTION: Notice with comment period.

SUMMARY: The Centers for Disease Control and Prevention (CDC) in the Department of Health and Human Services (HHS) announces the opening of a docket to obtain information from the public on preventing skin cancer through the reduction of UV exposure. The information obtained will be used for an anticipated Office of the Surgeon General response to the public health problem of skin cancer.

DATES: Written comments must be received on or before September 4, 2013.

ADDRESSES: You may submit comments, identified by docket number CDC-2013-0014 by any of the following methods:

• Federal eRulemaking Portal: http://www.regulations.gov. Follow the instructions for submitting comments.

• Mail: Meg Watson, MPH, Epidemiologist, Epidemiology and Applied Research Branch, Division of Cancer Prevention and Control, Centers for Disease Control and Prevention, 4770 Buford Highway NE., MS F-76, Atlanta, GA 30341-3717.

Instructions: All submissions received must include the agency name and docket number or RIN. All relevant comments received will be posted without change to http://regulations.gov, including any personal information provided. For access to the docket to read background documents or comments received, go to http://www.regulations.gov.

FOR FURTHER INFORMATION CONTACT: Meg Watson, Epidemiologist, Epidemiology and Applied Research Branch, Division of Cancer Prevention and Control, Centers for Disease Control and Prevention, 4770 Buford Highway NE., MS F-76, Atlanta, GA 30341-3717, by telephone at (770) 488-4226 or by email at FRNskincancer@cdc.gov.

SUPPLEMENTARY INFORMATION: Scope of the problem: Skin cancer rates, including rates of melanoma, are increasing in the United States and worldwide. An estimated 3.7 million cases of basal and squamous cell carcinomas and about 60,000 cases of melanoma are diagnosed in the U.S. annually, with approximately 8,500 deaths from melanoma. Melanoma, which causes more deaths than other types of skin cancer, is one of the most commonly diagnosed cancers among U.S. adolescents and young adults. Skin cancer also poses a significant economic burden in the U.S. The treatment of melanoma and non-melanoma skin cancer costs an estimated $1.7 billion each year, while costs due to low productivity are estimated to be $3.8 billion.

A majority of skin cancers are caused by exposure to ultraviolet (UV) radiation from the sun or from indoor tanning devices, and are therefore preventable. Evidence clearly links exposure to UV radiation and a history of sunburn (indicating both intensity of UV exposure and skin sensitivity to radiation) to an increased risk of skin cancer. More than one-third of U.S. adults aged 18 and older report experiencing one or more sunburns in the past 12 months, and sunburn is even more common among younger adults. Indoor tanning is also common among adults, with the highest use among non-Hispanic white women aged 18-21 years (31.8%) and aged 22-25 years (29.6%). Among white adults who reported indoor tanning, 57.7% of women and 40.0% of men reported indoor tanning ≥10 times in the past 12 months. Among U.S. high school students, 13.3% have indoor tanned in the past 12 months, with much higher rates among girls and non-Hispanic whites. Furthermore, only 10.8% of U.S. high school students report wearing sunscreen with SPF of 15 or higher most of the time or always when outside for more than one hour on a sunny day.

Approach: HHS/CDC provides leadership for nationwide efforts to reduce illness and death caused by skin cancer, which is the most common form of cancer in the U.S. HHS/CDC also conducts surveillance of melanoma and skin cancer risk-related behaviors, conducts applied research and evaluation, and translates and disseminates evidence-based information on how to reduce the burden of skin cancer in the population. Consistent with these activities, HHS/CDC is assisting the Office of the Surgeon General in the Department of Health and Human Services with an anticipated response to the public health issue of skin cancer, including deadly melanoma. The intent of this activity is to identify opportunities and actions that can be taken by all levels of government, civic organizations, health care providers, educational institutions, worksites, industry, service providers, individuals and others to reduce exposure to UV radiation throughout the nation by raising awareness of proper sun protection practices, providing or allowing for use of shade structures, clothing, and sunscreens where appropriate, and changing social norms regarding tanning and having tanned skin. Expectations are that a review of the information collected will lead to the issuance of the Office of Surgeon General publication.

We invite comments and information on environmental or systems strategies; interventions that reduce exposure to UV radiation; and national-, state-, tribal-, territorial-, community-, organizational-, and individual-level actions.

Areas of focus: Use of sun protection is low, while excessive sun exposure, indoor tanning, and sunburn are common. HHS/CDC and the Office of the Surgeon General are interested in receiving information on the following topics:

(1) Barriers to reducing UV exposure from the sun and from indoor tanning devices, and;

(2) Evidence-based strategies to reduce UV exposure in the population by increasing the use of sun protection and reducing tanning behaviors.

Dated: July 29, 2013.
J. Ronald Campbell,
Director, Division of Executive Secretariat, Centers for Disease Control and Prevention.

[FR Doc. 2013-18766 Filed 8-2-13; 8:45 am]

BILLING CODE 4163-18-P